DEPARTMENT OF ENERGY

Federal Energy Regulatory Commission

[Docket No. IN12-7-000]

Constellation Energy Commodities Group, Inc.; Notice of Designation of Certain Commission Personnel as Non-Decisional

Commission staff members Sandra Waldstein and Joyce Davidson, both of the Office of External Affairs, are assigned to facilitate communication with affected states. The affected states, in New York Independent System Operator, Inc., ISO New England Inc., and PJM Interconnection, L.L.C., are eligible to make requests for the apportionment of a fund the Commission established in a March 9, 2012 order in the above-referenced docket.

As “non-decisional” staff, Ms. Waldstein and Ms. Davidson will not participate in an advisory capacity in the Commission's review of any future filings in the above-referenced docket, including offers of settlement or settlement agreements.

Different Commission “advisory staff” will be assigned to review and process subsequent filings that are made in the above-referenced docket, including any offer of settlement or settlement agreement. Non-decisional staff and advisory staff are prohibited from subsequent communications with one another concerning matters in the above-referenced docket.

Dated: March 16, 2012.
Nathaniel J. Davis, Sr.,
Deputy Secretary.

[FR Doc. 2012-6883 Filed 3-21-12; 8:45 am]

BILLING CODE 6717-01-P